DEPARTMENT OF COMMERCE

Economic Development Administration

[Docket No. 991215339-5181-18]

National Technical Assistance: Research and Evaluation Program

AGENCY: Economic Development Administration (EDA) Department of Commerce (DOC).

ACTION: Notice and request for proposals.

SUMMARY: The mission of EDA is to lead the Federal economic development agenda by promoting innovation and competitiveness, preparing American regions for growth and success in the worldwide economy. Through the Research and Evaluation program, EDA will work towards fulfilling its mission by funding research and technical assistance projects to promote competitiveness and innovation in urban and rural regions throughout the United States and its territories. By working in conjunction with its research partners, EDA will help States, local and tribal governments and community-based organizations to achieve their highest economic potential. Pursuant to its Research and Evaluation program, EDA is soliciting competitive proposals for the following project: Addressing Competitiveness and Innovation in Rural U.S. Regions—Developing and Analyzing Rural Clusters of Innovation and Linking Rural and Metropolitan Regions.

DATES: Proposals for funding pursuant to this competitive solicitation must be received by the EDA Headquarters representative listed in the ADDRESSES section of this notice no later than August 18, 2005 at 4 p.m. (e.d.t.). Proposals received after 4 p.m. (e.d.t.) on August 18, 2005 will not be considered for funding. By September 2, 2005, EDA will notify proponents whether they will be given further funding consideration and will invite the successful proponent to submit a formal application for EDA investment assistance.

ADDRESSES: Proposals submitted pursuant to this competitive solicitation may be (a) E-mailed to W. Kent Lim at klim1@eda.doc.gov; (b) hand-delivered to: W. Kent Lim, Economic Development Administration, Room 1874, U.S. Department of Commerce, 1401 Constitution Avenue, NW., Washington, DC 20230; or (c) mailed to: W. Kent Lim, Economic Development Administration, Room 7015, U.S. Department of Commerce, 1401 Constitution Avenue, NW., Washington, DC 20230. Proponents are encouraged to submit proposals by e-mail. EDA will not accept proposals submitted by facsimile. Please note that any correspondence sent by regular mail may be substantially delayed or suspended in delivery, since all regular mail sent to the Department of Commerce is subject to extensive security screening.

FOR FURTHER INFORMATION CONTACT: Please contact W. Kent Lim at (202) 482-6225 or via e-mail at the address listed above. The text of the full FFO announcement may also be accessed at EDA's Internet Web site: http://www.eda.gov and at Grants.gov: http://www.grants.gov.

SUPPLEMENTARY INFORMATION: Electronic Access: The full FFO announcement for this competitive solicitation is available at EDA's Web site, http://www.eda.gov, and at Grants.gov at http://www.grants.gov.

Funding Availability: EDA may use funds appropriated under Public Law 108-447 for the Research and Evaluation program. These funds are available until expended. EDA expects that the successful proposal for this project will require an EDA investment of between $250,000 and $500,000. The EDA award under this competitive solicitation will be in the form of a grant between EDA and the successful proponent.

Statutory Authority: The statutory authority for the Research and Evaluation program is the Public Works and Economic Development Act of 1965, as amended ((Pub. L. 89-136, 42 U.S.C. 3121 et seq.), including the comprehensive amendments made by the Economic Development Administration Reauthorization Act of 2004 (Pub. L. 108-373) (PWEDA).

CFDA: 11.312 Economic Development—Research and Evaluation Program.

Eligibility: Eligible applicants for, and eligible recipients of, EDA financial assistance under the Research and Evaluation program include: Economic Development Districts; Indian tribes; States; cities or other political subdivision of a State, including a special purpose unit of State or local government engaged in economic or infrastructure development activities, or a consortium of political subdivisions; institutions of higher education or consortia of institutions of higher education; public or private nonprofit organizations or associations acting in cooperation with officials of a political subdivision of a State; private individuals; and for-profit organizations. See 42 U.S.C. 3122 and 13 CFR 300.2.

Cost Sharing Requirements: Section 204(a) of PWEDA (42 U.S.C. 3144) provides that the maximum EDA investment rate for a project must not exceed the sum of fifty (50) percent of the overall project cost, plus an additional thirty (30) percent of the overall project cost that is based on the “relative needs” of the region in which the project will be located. For projects under the Research and Evaluation program, the Assistant Secretary of Commerce for Economic Development (the “Assistant Secretary”) has the discretion to establish a maximum EDA investment rate of up to one hundred (100) percent of the overall project cost where the project merits and is not otherwise feasible without an increase to the EDA investment rate. While cash contributions are preferred, the project's matching funds requirement (i.e., the non-Federal share) may consist of in-kind contributions, fairly evaluated by EDA, such as contributions of space, equipment and services. See Section 204(b) of PWEDA (42 U.S.C. 3144) and 13 CFR 301.4(a). In-kind contributions must be eligible project costs and meet applicable Federal cost principles and uniform administrative requirements. Id. Additionally, the non-Federal share of the project's costs must be committed to the project, available as needed and not conditioned or encumbered in any way that preclude its use consistent with the requirements of the EDA investment assistance. See 13 CFR 316.17.

Intergovernmental Review: Proposals and applications under the Research and Evaluation program are not subject to Executive Order 12372, “Intergovernmental Review of Federal Programs.”

Evaluation and Selection Procedures:

A. Review Criteria and Selection Procedures

To apply for an award under this request, an eligible applicant must submit a proposal to EDA during the specified timeframe provided in the DATES section of this notice. Proposals that are not timely submitted or that do not meet all items required or that exceed the page limitations set forth in this competitive solicitation will be considered non-responsive and will not be considered by the review panel. Proposals that meet all of the technical requirements set forth in this competitive solicitation will be evaluated by a review panel comprised of at least three members, all of whom will be full-time Federal employees. See 13 CFR 304.1(b), 304.2(a). The review panel will evaluate those proposals meeting the technical requirements of this competitive solicitation and rate and rank them using the following criteria of approximate equal weight:

1. General evaluation criteria set forth in 13 CFR 304.2;

2. Supplemental evaluation criteria (Investment Policy Guidelines) set forth in Section B. below; and the

3. Cost to the Federal Government.

The Assistant Secretary is the Selecting Official and will normally follow the recommendation of the review panel. However, the Assistant Secretary may not make any selection, or he may substitute one of the lower-rated proposals, if he determines that it better meets the overall objectives of PWEDA.

B. Supplemental Evaluation Criteria: Investment Policy Guidelines

EDA's mission is to lead the Federal economic development agenda by promoting innovation and competitiveness, preparing American regions for growth and success in the worldwide economy. Accordingly, all potential EDA investments will be analyzed using the following five Investment Policy Guidelines, which constitute supplemental evaluation criteria of approximate equal weight and which further define the general evaluation criteria provided at 13 CFR 304.2:

1. Be market-based and results driven. An investment will capitalize on a region's competitive strengths and will positively move a regional economic indicator measured on EDA's Balanced Scorecard, such as: an increased number of higher-skill, higher-wage jobs; increased tax revenue; or increased private sector investment.

2. Have strong organizational leadership. An investment will have strong leadership, relevant project management experience, and a significant commitment of human resources talent to ensure a project's successful execution.

3. Advance productivity, innovation, and entrepreneurship. An investment will embrace the principles of entrepreneurship, enhance regional clusters, and leverage and link technology innovators and local universities to the private sector to create the conditions for greater productivity, innovation, and job creation.

4. Look beyond the immediate economic horizon, anticipate economic changes, and diversify the local and regional economy. An investment will be part of an overarching, long term comprehensive economic development strategy that enhances a region's success in achieving a rising standard of living by supporting existing industry clusters, developing emerging new clusters, or attracting new regional economic drivers.

5. Demonstrate a high degree of commitment by exhibiting: (a) High levels of local government or non-profit matching funds and private sector leverage; (b) clear and unified leadership and support by local elected officials; and (c) strong cooperation between the business sector, relevant regional partners and local, State and Federal Governments.

Announcement and Award Dates: By September 2, 2005, EDA will notify proponents whether they will be given further funding consideration and will invite the successful proponent to submit a formal application for EDA investment assistance. The proponent invited by EDA to submit a formal application should expect to receive funding for its project by September 30, 2005; however, there is no guarantee that the proponent will receive funding.

Supplemental Notice

EDA's reauthorization legislation was signed into law on October 27, 2004, with amendments made to PWEDA through the Economic Development Administration Reauthorization Act of 2004 (Pub. L. 108-373). Since reauthorization, EDA is in the process of conducting a full scale review and revision of its regulations. When revised regulations are published, EDA may publish a supplemental notice in the Federal Register in order to provide applicants with updated information on the revised regulations.

The Department of Commerce Pre-Award Notification Requirements for Grants and Cooperative Agreements

The Department of Commerce Pre-Award Notification Requirements for Grants and Cooperative Agreements contained in the Federal Register notice of December 28, 2004 (69 FR 78389) is applicable to this solicitation.

Paperwork Reduction Act

This document contains collection-of-information requirements subject to the Paperwork Reduction Act (PRA). The use of Form ED-900A has been approved by OMB under the control number 0610-0094. Notwithstanding any other provision of law, no person is required to respond to, nor shall any person be subject to a penalty for failure to comply with, a collection of information subject to the requirements of the PRA unless that collection of information displays a currently valid OMB control number.

Executive Order 12866

This notice has been determined not to be significant for purposes of Executive Order 12866.

Executive Order 13132 (Federalism)

It has been determined that this notice does not contain policies with Federalism implications as that term is defined in Executive Order 13132.

Administrative Procedure Act/ Regulatory Flexibility Act

Prior notice and an opportunity for public comments are not required by the Administrative Procedure Act or any other law for this rule concerning grants, benefits and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: July 13, 2005.
Sandy Baruah,
Chief of Staff.

[FR Doc. 05-14158 Filed 7-18-05; 8:45 am]

BILLING CODE 3510-24-P